DEPARTMENT OF TRANSPORTATION

Federal Aviation Administration

Eleventh Meeting: RTCA Special Committee 223 Airport Surface Wireless Communications

AGENCY: Federal Aviation Administration (FAA), U.S. Department of Transportation (DOT).

ACTION: Notice of RTCA Special Committee 223 Airport Surface Wireless Communications Eleventh Meeting.

SUMMARY: The FAA is issuing this notice to advise the public of a meeting of RTCA Special Committee 223, Airport Surface Wireless Communications Eleventh Meeting

DATES: The meeting will be held December 6-7th, 2011, from 9 a.m.-5 p.m.

ADDRESSES: The meeting will be held at Booz Allen Hamilton, 1201 Maryland Avenue SW., Suite 5121B, Washington, DC 20024

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Special Committee 223, Airport Surface Wireless Communications Meeting. The agenda will include the following:

December 6th, 2011

• Plenary

• Welcome, Introductions, Administrative Remarks by Special Committee Leadership

• Designated Federal Official (DFO): Mr. Brent Phillips

• Co-Chair: Mr. Aloke Roy, Honeywell International

• Co-Chair: Mr. Ward Hall, ITT Corporation

• Agenda Overview

• Review/Approve Joint EUROCAE WG-82/RTCA SC-223 Plenary meeting Summary—RTCA Paper No. 220-11/SC223-023, and action item status

• Review action items

• General Presentations of Interest

• WiMAX Forum status—WiMAX Forum

• RTCA SC-206 Communiqué on Attributes Capability Matrix

• ICAO Working Group S (plans/proposals/actions???)

• AEEC SAI Action Regarding AeroMACS Standards—Continental Airlines

Afternoon—MOPS WG Breakout Session

• MOPS Outline—Rockwell Collins

• Introduction Sections

• Discussion of Chapters 5,6,8—EUROCONTROL

• SESAR P15.2.7 Profiles Definition for AeroMACS

• Chap 8—Physical Layer—Updates per WiMAX Forum

• Chap 5—Service Specific CS

• Chap 6—Media Access Control

December 7, 2011

• MOPS WG Breakout Session

• Discussion of Security Sub-layer—Honeywell

• Review draft of Environmental (DO-160G)—Rockwell Collins

• Review draft PICS—EUROCAE (Thales)

• Review draft CSRL Appendix—Rockwell Collins

• MOPS Schedule/Logistics—Rockwell Collins

• Wednesday Afternoon—Reconvene Plenary:

• Discuss Work Program for 2012

• Establish Agenda, Date and Place for RTCA plenary meetings #13 and #14

• Review of Meeting summary report

• Adjourn—Expected by 15:00

• Review all action items

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 17, 2011.
Robert L. Bostiga,
Manager, Business Operations Group, Federal Aviation Administration.

[FR Doc. 2011-30497 Filed 11-25-11; 8:45 am]

BILLING CODE 4910-13-P